DEPARTMENT OF ENERGY

Federal Energy Regulatory Commission

Combined Notice of Filings #1

Take notice that the Commission received the following electric corporate filings:

Docket Numbers: EC18-19-000.

Applicants: Wisconsin Public Service Corporation, Wisconsin Power and Light Company, Madison Gas and Electric Company, Forward Energy LLC.

Description: Joint Application for Authorization of Disposition of Jurisdictional Assets Under Section 203 of the Federal Power Act, et al. of Wisconsin Public Service Corporation, et al.

Filed Date: 11/14/17.

Accession Number: 20171114-5148.

Comments Due: 5 p.m. ET 12/5/17.

Take notice that the Commission received the following electric rate filings:

Docket Numbers: ER18-288-000.

Applicants: GridLiance West Transco LLC.

Description: Initial rate filing: Concurrence RS 516 SCE IA GridLiance West Transco LLC to be effective 10/25/2017.

Filed Date: 11/14/17.

Accession Number: 20171114-5109.

Comments Due: 5 p.m. ET 12/5/17.

Docket Numbers: ER18-289-000.

Applicants: Duke Energy Progress, LLC.

Description: § 205(d) Rate Filing: Fayetteville CIAC RS 204 Filing to be effective 11/15/2017.

Filed Date: 11/14/17.

Accession Number: 20171114-5118.

Comments Due: 5 p.m. ET 12/5/17.

Docket Numbers: ER18-290-000.

Applicants: PJM Interconnection, L.L.C.

Description: § 205(d) Rate Filing: Original Service Agreement No. 4840; Queue No. AC2-174 (WMPA) to be effective 10/20/2017.

Filed Date: 11/15/17.

Accession Number: 20171115-5019.

Comments Due: 5 p.m. ET 12/6/17.

Docket Numbers: ER18-291-000.

Applicants: AEP Oklahoma Transmission Company, Inc.

Description: Compliance filing: AEPOTC RS and SA Baseline to be effective 11/16/2017.

Filed Date: 11/15/17.

Accession Number: 20171115-5029.

Comments Due: 5 p.m. ET 12/6/17.

Docket Numbers: ER18-292-000.

Applicants: AEP Texas Inc.

Description: § 205(d) Rate Filing: AEPTX-Concho Valley EC-Golden Spread EC IA Second Amend & Restated to be effective 10/30/2017.

Filed Date: 11/15/17.

Accession Number: 20171115-5034.

Comments Due: 5 p.m. ET 12/6/17.

Docket Numbers: ER18-293-000.

Applicants: PJM Interconnection, L.L.C.

Description: § 205(d) Rate Filing: Original Service Agreement No. 4825; Queue AC2-168 (WMPA) to be effective 10/19/2017.

Filed Date: 11/15/17.

Accession Number: 20171115-5072.

Comments Due: 5 p.m. ET 12/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2017.
Nathaniel J. Davis, Sr.,
Deputy Secretary.

[FR Doc. 2017-25151 Filed 11-20-17; 8:45 am]

BILLING CODE 6717-01-P